DEPARTMENT OF TRANSPORTATION

Federal Aviation Administration

14 CFR Part 39

[Docket No. FAA-2005-20802; Directorate Identifier 2005-CE-18-AD]

RIN 2120-AA64

Airworthiness Directives; PZL-Swidnik S.A. Models PW-5 “Smyk” and PW-6U Gliders

AGENCY: Federal Aviation Administration (FAA), DOT.

ACTION: Notice of proposed rulemaking (NPRM).

SUMMARY: The FAA proposes to adopt a new airworthiness directive (AD) for certain PZL-Swidnik S.A. (PZL-Swidnik) Models PW-5 “Smyk” and PW-6U gliders. This proposed AD would require you to inspect for the minimum dimension of the left side aileron, right side aileron, and airbrake push-rod ends for certain Model PW-5 “Smyk” gliders; inspect for the minimum dimension of the aileron, airbrake, and elevator control push-rod ends for certain Model PW-6U gliders; and replace any push-rod end that does not meet the minimum dimension. This proposed AD results from mandatory continuing airworthiness information (MCAI) issued by the airworthiness authority for Poland. We are issuing this proposed AD to detect and replace any push-rod end that does not meet the minimum dimension, which could result in failure of the control system. This failure could lead to loss of control of the glider.

DATES: We must receive any comments on this proposed AD by May 27, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact PZL-Swidnik S.A., Polish Aviation Works, Al. Lotnikow Polskich 1, 21-045 Swidnik, Poland; telephone: 48 81 468 09 01 751 20 71; facsimile: 48 81 468 09 19 751 21 73.

To view the comments to this proposed AD, go to http://dms.dot.gov. This is docket number FAA-2005-20802; Directorate Identifier 2005-CE-18-AD.

FOR FURTHER INFORMATION CONTACT: Greg Davison, Aerospace Engineer, FAA, Small Airplane Directorate, 901 Locust, Room 301, Kansas City, Missouri 64106; telephone: (816) 329-4130; facsimile: (816) 329-4090.

SUPPLEMENTARY INFORMATION:

Comments Invited

How do I comment on this proposed AD? We invite you to submit any written relevant data, views, or arguments regarding this proposal. Send your comments to an address listed under ADDRESSES. Include the docket number, “FAA-2005-20802; Directorate Identifier 2005-CE-18-AD” at the beginning of your comments. We will post all comments we receive, without change, to http://dms.dot.gov, including any personal information you provide. We will also post a report summarizing each substantive verbal contact with FAA personnel concerning this proposed rulemaking. Using the search function of our docket web site, anyone can find and read the comments received into any of our dockets, including the name of the individual who sent the comment (or signed the comment on behalf of an association, business, labor union, etc.). This is docket number FAA-2005-20802; Directorate Identifier 2005-CE-18-AD. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The General Inspectorate of Civil Aviation (GICA), which is the airworthiness authority for Poland, recently notified FAA that an unsafe condition may exist on certain PZL-Swidnik S.A. (PZL-Swidnik) gliders. The GICA reports that an owner of a Model PW-6U glider found the dimension of the push-rod end to not meet the minimum dimension of 0.165 inches (in.) or 4.2 millimeter (mm). Further, the GICA reports that the manufacturer has identified a production run of these parts that do not meet the minimum dimension of the push-rod end. Similar push-rod ends, where applicable, are used to link the ailerons, airbrakes, and elevator control systems in the Models PW-5 “Smyk” and PW-6U gliders.

What is the potential impact if FAA took no action? Any push-rod end that does not meet the minimum dimension could result in failure of the control system. This failure could lead to loss of control of the glider.

Is there service information that applies to this subject? PZL-Swidnik has issued:

—Mandatory Bulletin Number BO-17-03-18, dated December 22, 2003, for the Model PW-5 “Smyk” gliders.

—Mandatory Bulletin Number BO-78-03-06, dated December 22, 2003, for the Model PW-6U gliders.

What are the provisions of this service information? The service information includes procedures for:

—Inspecting for the minimum dimension of the left side aileron, right side aileron, and airbrake push-rod ends for the Model PW-5 “Smyk” gliders;

—Inspecting for the minimum dimension of the aileron, airbrake, and elevator control push-rod ends for the Model PW-6U gliders; and

—Replacing any push-rod end that does not meet the minimum dimension.

What action did the GICA take? The GICA classified this service bulletin as mandatory and issued Polish AD Numbers SP-0085-2003-A, dated December 22, 2003, and SP-0086-2003, dated December 22, 2003, to ensure the continued airworthiness of these gliders in Poland.

Did the GICA inform the United States under the bilateral airworthiness agreement? These PZL-Swidnik Models PW-5 “Smyk” and PW-6U gliders are manufactured in Poland and are type-certificated for operation in the United States under the provisions of § 21.29 of the Federal Aviation Regulations (14 CFR 21.29) and the applicable bilateral airworthiness agreement.

Under this bilateral airworthiness agreement, the GICA has kept us informed of the situation described above.

FAA's Determination and Requirements of This Proposed AD

What has FAA decided? We have examined the GICA's findings, reviewed all available information, and determined that AD action is necessary for products of this type design that are certificated for operation in the United States.

Since the unsafe condition described previously is likely to exist or develop on other PZL-Swidnik Models PW-5 “Smyk” and PW-6U gliders of the same type design that are registered in the United States, we are proposing AD action to detect and replace any push-rod end that does not meet the minimum dimension, which could result in failure of the control system. This failure could lead to loss of control of the glider.

What would this proposed AD require? This proposed AD would require you to incorporate the actions in the previously-referenced service bulletin.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many gliders would this proposed AD impact? We estimate that this proposed AD affects 67 gliders in the U.S. registry.

What would be the cost impact of this proposed AD on owners/operators of the affected gliders? We estimate the following costs to do this proposed inspection of the push-rod ends:

Labor cost | Parts cost | Total cost per glider | Total cost on U.S. operators
1 work hour × $65 = $65 | Not Applicable | $65 | 67 × $65 = $4,355

We estimate the following costs to do any necessary push-rod end replacements that would be required based on the results of this proposed inspection. We have no way of determining the number of gliders that may need this replacement:

Labor cost per push-rod end | Parts cost | Total cost per push-rod end per glider
1 work hour × $65 = $65 | Not Applicable | $65

The manufacturer has stated that the costs for any required parts and transportation will be covered under the manufacturer's warranty.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD (and other information as included in the Regulatory Evaluation) and placed it in the AD Docket. You may get a copy of this summary by sending a request to us at the address listed under ADDRESSES. Include “AD Docket FAA-2005-20802; Directorate Identifier 2005-CE-18-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

PZL-Swidnik S.A.: Docket No. FAA-2005-20802; Directorate Identifier 2005-CE-18-AD.

When Is the Last Date I Can Submit Comments on This Proposed AD?

(a) We must receive comments on this proposed airworthiness directive (AD) by May 27, 2005.

What Other ADs Are Affected by This Action?

(b) None.

What Gliders Are Affected by This AD?

(c) This AD affects the following glider models and serial numbers that are certificated in any category:

Model | Serial Numbers
PW-5 “Smyk” | 17.12.022 through 17.12.024.
PW-6U | 78.02.07 through 78.02.10 and 78.03.01 through 78.03.03.

What Is the Unsafe Condition Presented in This AD?

(d) This AD is the result of mandatory continuing airworthiness information (MCAI) issued by the airworthiness authority for Poland. The actions specified in this AD are intended to detect and replace any push-rod end that does not meet the minimum dimension, which could result in failure of the control system. This failure could lead to loss of control of the glider.

What Must I Do To Address This Problem?

(e) To address this problem, you must do the following:

Actions | Compliance | Procedures
(1) Inspect for the minimum dimension (0.165 inches (in.) or 4.2 millimeter (mm)): (i) Any left side aileron, right side aileron, and airbrake push-rod end (part number (P/N) 511.00.20.00) for the Model PW-5 “Smyk” glider; and (ii) Any aileron, airbrake, and elevator control push-rod end (P/N 78.21.215.00.00) for the Model PW-6U glider. | Within the next 25 hours time-in-service (TIS) after the effective date of this AD, unless already done | For the Model PW-5 “Smyk” glider: Follow Communication Equipment Factory PZL-Swidnik Mandatory Bulletin Number BO-17-03-18, dated December 22, 2003. For the Model PW-6U glider: Follow Communication Equipment Factory PZL-Swidnik Mandatory Bulletin Number BO-78-03-06, dated December 22, 2003.
(2) Replace any push-rod end (P/N 511.00.20.00 or 78.21.215.00.00) that you find as a result of the inspection required by paragraph (e)(1) of this AD that has a push-rod end that is less than the minimum dimension (0.165 in. or 4.2 mm). | Before further flight after the inspection required by paragraph (e)(1) of this AD | For the Model PW-5 “Smyk” glider: Follow Communication Equipment Factory PZL-Swidnik Mandatory Bulletin Number BO-17-03-18, dated December 22, 2003. For the Model PW-6U glider: Follow Communication Equipment Factory PZL-Swidnik Mandatory Bulletin Number BO-78-03-06, dated December 22, 2003.
(3) Do not install any push-rod end (P/N 511.00.20.00 or 78.21.215.00.00) with a dimension that is less than the minimum dimension (0.165 in. or 4.2 mm) for the following use: (i) Any push-rod end for the left side aileron, right side aileron, or airbrake of the Model PW-5 “Smyk” glider; and (ii) Any push-rod end for the ailerons, airbrake, or elevator control of the Model PW-6U glider. | As of the effective date of this AD | For the Model PW-5 “Smyk” glider: Follow Communication Equipment Factory PZL-Swidnik Mandatory Bulletin Number BO-17-03-18, dated December 22, 2003. For the Model PW-6U glider: Follow Communication Equipment Factory PZL-Swidnik Mandatory Bulletin Number BO-78-03-06, dated December 22, 2003.

Note: You may contact the manufacturer at the address in paragraph (h) of this AD to request any required replacement part push-rod end.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Greg Davison, Aerospace Engineer, FAA, Small Airplane Directorate, 901 Locust, Room 301, Kansas City, Missouri 64106; telephone: (816) 329-4130; facsimile: (816) 329-4090.

Is There Other Information That Relates to This Subject?

(g) Polish AD Numbers SP-0085-2003-A, dated December 22, 2003, and SP-0086-2003, dated December 22, 2003, also address the subject of this AD.

May I Get Copies of the Documents Referenced in This AD?

(h) To get copies of the documents referenced in this AD, contact PZL-Swidnik S.A., Polish Aviation Works, Al. Lotnikow Polskich 1, 21-045 Swidnik, Poland; telephone: 48 81 468 09 01 751 20 71; facsimile: 48 81 468 09 19 751 21 73. To view the AD docket, go to the Docket Management Facility; U.S. Department of Transportation, 400 Seventh Street, SW., Nassif Building, Room PL-401, Washington, DC, or on the Internet at http://dms.dot.gov. This is docket number FAA-2005-20802; Directorate Identifier 2005-CE-18-AD.

Issued in Kansas City, Missouri, on April 20, 2005.
Patrick R. Mullen,
Acting Manager, Small Airplane Directorate, Aircraft Certification Service.

[FR Doc. 05-8406 Filed 4-26-05; 8:45 am]

BILLING CODE 4910-13-P